DEPARTMENT OF THE INTERIOR

Fish and Wildlife Service

[FWS-R2-ES-2016-N053; FXES11130200000-167-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before June 1, 2016.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-066229

Applicant: Whitenton Group, Inc. Environmental Consultants, San Marcos, Texas.

Applicant requests an amendment to a current permit for research and recovery purposes to conduct presence/absence surveys for gray bat (Myotis grisescens) and Indiana bat (Myotis sodalis) in Alabama, Arkansas, Georgia, Illinois, Indiana, Kentucky, Louisiana, Michigan, Mississippi, Missouri, New York, North Carolina, Ohio, Pennsylvania, South Carolina, Tennessee, Virginia, and Wisconsin.

Permit TE-66060A

Applicant: Janine A. Spencer, Marana, Arizona.

Applicant requests a new permit for research and recovery purposes to conduct presence/absence surveys for southwestern willow flycatcher (Empidonax traillii extimus) within Arizona.

Permit TE-67491A

Applicant: Permits West, Inc., Santa Fe, New Mexico.

Applicant requests a new permit for research and recovery purposes to conduct presence/absence surveys for southwestern willow flycatcher (Empidonax traillii extimus) within Arizona, Colorado, New Mexico, and Utah.

Permit TE-89853B

Applicant: Rachel A. More-Hla, Safford, Arizona.

Applicant requests a new permit for research and recovery purposes to conduct presence/absence surveys for southwestern willow flycatcher (Empidonax traillii extimus) within Arizona.

Permit TE-89853B

Applicant: Shawn P. Stone, Safford, Arizona.

Applicant requests a new permit for research and recovery purposes to conduct presence/absence surveys for southwestern willow flycatcher (Empidonax traillii extimus) within Arizona.

Permit TE-87020B

Applicant: Andrew M. Mooso, San Antonio, Texas.

Applicant requests a new permit for research and recovery purposes to conduct presence/absence surveys for black-capped vireo (Vireo atricapilla) and golden-cheeked warbler (Dendroica chrysoparia) within Texas.

Permit TE-91694B

Applicant: Steven S. Cramer, San Antonio, Texas.

Applicant requests a new permit for research and recovery purposes to conduct presence/absence surveys for golden-cheeked warbler (Dendroica chrysoparia) within Texas.

Permit TE-65178A

Applicant: Jennifer L. Reidy, Liberty, Missouri.

Applicant requests a new permit for research and recovery purposes to conduct presence/absence surveys, capture, and banding of golden-cheeked warbler (Dendroica chrysoparia) within Texas.

Permit TE-89788B

Applicant: Eric Attwodd, Austin, Texas.

Applicant requests a new permit for research and recovery purposes to conduct presence/absence surveys for golden-cheeked warbler (Dendroica chrysoparia) within Texas.

Permit TE-87862B

Applicant: Wanda J. Bruhns, Tempe, Arizona.

Applicant requests a new permit for research and recovery purposes to conduct presence/absence surveys for southwestern willow flycatcher (Empidonax traillii extimus) within Arizona.

Permit TE-88214B

Applicant: John N. Macey, Temple, Texas.

Applicant requests a new permit for research and recovery purposes to conduct presence/absence surveys for golden-cheeked warbler (Dendroica chrysoparia) and black-capped vireo (Vireo atricapilla) within Texas.

Permit TE-89697B

Applicant: Crystal Datri, Austin, Texas.

Applicant requests a new permit for research and recovery purposes to conduct presence/absence surveys for the following species within Texas:

• Golden-cheeked warbler (Dendroica chrysoparia)

• Austin blind salamander (Eurycea waterlooensis)

• Barton Springs salamander (Eurycea sosorum)

• Georgetown salamander (Eurycea naufragia)

• Jollyville Plateau salamander (Eurycea tonkawae)

• Salado salamander (Eurycea chisholmensis)

• San Marcos salamander (Eurycea nana)

• Texas blind salamander (Typhlomolge rathbuni)

Permit TE-836329

Applicant: Blanton & Associates, Inc., Austin, Texas.

Applicant requests an amendment to a current permit for research and recovery purposes to conduct presence/absence surveys for the following species within Arizona, New Mexico, Oklahoma, and Texas:

• Jaguar (Panthera onca)

• whooping crane (Grus americana)

• hawksbill sea turtle (Eretmochelys imbricata)

• Kemp's ridley sea turtle (Lepidochelys kempii)

• leatherback sea turtle (Dermochelys coriacea)

• Pecos assiminea (Assiminea pecos)

• diminutive amphipod (Gammarus hyalleloides)

• Pecos amphipod (Gammarus pecos)

• Diamond tryonia (Pseudotryonia adamantina)

• Phantom springsnail (Pyrgulopsis texana)

• Phantom tryonia (Tryonia cheatumi)

• Gonzales tryonia (Tryonia circumstriata (=stocktonensis))

• American burying beetle (Nicrophorus americanus)

Permit TE-87857B

Applicant: Eric Green, Flagstaff, Arizona.

Applicant requests a new permit for research and recovery purposes to conduct presence/absence surveys for gray bat (Myotis grisescens) and Indiana bat (Myotis sodalis) in Alabama, Arkansas, Connecticut, Florida, Georgia, Illinois, Indiana, Kansas, Kentucky, Michigan, Mississippi, Missouri, New Jersey, New York, North Carolina, Ohio, Oklahoma, Pennsylvania, Tennessee, Vermont, Virginia, and West Virginia.

Permit TE-87860B

Applicant: Dana Green, Flagstaff, Arizona.

Applicant requests a new permit for research and recovery purposes to conduct presence/absence surveys for gray bat (Myotis grisescens) and Indiana bat (Myotis sodalis) in Alabama, Arkansas, Connecticut, Florida, Georgia, Illinois, Indiana, Iowa, Kansas, Kentucky, Maryland, Michigan, Mississippi, Missouri, New Jersey, New York, North Carolina, Ohio, Oklahoma, Pennsylvania, Tennessee, Vermont, Virginia, and West Virginia.

Permit TE-88227B

Applicant: Jay B. Deatherage, Nacogdoches, Texas.

Applicant requests a new permit for research and recovery purposes to conduct presence/absence surveys for Indiana bat (Myotis sodalis) in Alabama, Arkansas, Georgia, Illinois, Indiana, Iowa, Kentucky, Michigan, Mississippi, Missouri, New Jersey, New York, North Carolina, Ohio, Oklahoma, Pennsylvania, Tennessee, Vermont, Virginia, and West Virginia.

Permit TE-87818B

Applicant: Melanie Gregory, Austin, Texas.

Applicant requests a new permit for research and recovery purposes to conduct presence/absence surveys for Ozark big-eared bat (Corynorhinus (=plecotus) townsendii ingens) within Arkansas, Missouri, and Oklahoma.

Permit TE-082492

Applicant: Charles Hathcock, Los Alamos, New Mexico.

Applicant requests an amendment to a current permit for research and recovery purposes to capture, band, and collect blood and feathers from southwestern willow flycatchers (Empidonax traillii extimus) within New Mexico.

Permit TE-87751B

Applicant: Christine Cooley, Tulsa, Oklahoma.

Applicant requests a new permit for research and recovery purposes to conduct presence/absence surveys for American burying beetle (Nicrophorus americanus) within Arkansas, Kansas, Missouri, Nebraska, Oklahoma, South Dakota, and Texas.

Permit TE-88788B

Applicant: Jefferson Summerlin, Eunice, Louisiana.

Applicant requests a new permit for research and recovery purposes to conduct presence/absence surveys of American burying beetle (Nicrophorus americanus) within Oklahoma.

Permit TE-92103B

Applicant: Mary McBryar, Tulsa, Oklahoma.

Applicant requests a new permit for research and recovery purposes to conduct presence/absence surveys of American burying beetle (Nicrophorus americanus) within Oklahoma and Texas.

Permit TE-91812B

Applicant: Minaly Agosto, Tulsa, Oklahoma.

Applicant requests a new permit for research and recovery purposes to conduct presence/absence surveys of American burying beetle (Nicrophorus americanus) within Arkansas, Kansas, Oklahoma, and Texas.

Permit TE-91831B

Applicant: Cody Vicenki, Tomball, Texas.

Applicant requests a new permit for research and recovery purposes to conduct presence/absence surveys of American burying beetle (Nicrophorus americanus) within Arkansas, Kansas, Oklahoma, and Texas.

Permit TE-89699B

Applicant: Sam Houston State University, Huntsville, Texas.

Applicant requests a new permit for research and recovery purposes to conduct presence/absence surveys of American burying beetle (Nicrophorus americanus) within Oklahoma and Texas.

Permit TE-88789B

Applicant: Sharon Davis, Evening Shade, Arkansas.

Applicant requests a new permit for research and recovery purposes to conduct presence/absence surveys of American burying beetle (Nicrophorus americanus) within Arkansas, Kansas, Nebraska, Oklahoma, South Dakota, and Texas.

Permit TE-55151B

Applicant: Bureau of Land Management-Roswell Field Office, Roswell, New Mexico.

Applicant requests a new permit for research and recovery purposes to maintain and display live Colorado pikeminnow (Ptychocheilus lucius) and razorback sucker (Xyrauchen texanus) within New Mexico.

Permit TE-106816

Applicant: Douglas High School, Douglas, Arizona.

Applicant requests an amendment to a current permit for research and recovery purposes to rear and maintain Chiricahua leopard frog (Lithobates chiricahuensis), Yaqui topminnow (Poeciliopsis occidentalis), and Yaqui chub (Gila purpurea) within Arizona.

Permit TE-046447

Applicant: U.S. Geological Survey-Columbia Environmental Research Center, Yankton, South Dakota.

Applicant requests an amendment to a current permit for research and recovery purposes to conduct laboratory toxicity studies on razorback suckers (Xyrauchen texanus) within South Dakota.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: April 15, 2016.
Benjamin N. Tuggle,
Regional Director, Southwest Region, U.S. Fish and Wildlife Service.

[FR Doc. 2016-10203 Filed 4-29-16; 8:45 am]

BILLING CODE 4333-15-P